DEPARTMENT OF COMMERCE

Foreign-Trade Zones Board

[S-166-2014]

Foreign-Trade Zone 231—Stockton, California Application for Subzone Expansion Medline Industries, Inc.; Lathrop, California

An application has been submitted to the Foreign-Trade Zones (FTZ) Board by the Port of Stockton, California, grantee of FTZ 231, requesting an additional site within Subzone 231A on behalf of Medline Industries, Inc. (Medline), located in Lathrop, California. The application was submitted pursuant to the provisions of the Foreign-Trade Zones Act, as amended (19 U.S.C. 81a-81u), and the regulations of the FTZ Board (15 CFR part 400). It was formally docketed on December 15, 2014.

Subzone 231A was approved on March 4, 2007 (72 FR 14516, 03/28/2007) and currently consists of one site: Site 1 (12.49 acres) 18250 Murphy Parkway, Lathrop. The applicant is now requesting authority to include an additional site: Proposed Site 2 (9.03 acres), 501 D'Arcy Parkway, Lathrop. No authorization for production activity has been requested at this time. The proposed subzone would be subject to the existing activation limit of FTZ 231.

In accordance with the FTZ Board's regulations, Christopher Kemp of the FTZ Staff is designated examiner to review the application and make recommendations to the Executive Secretary.

Public comment is invited from interested parties. Submissions shall be addressed to the FTZ Board's Executive Secretary at the address below. The closing period for their receipt is January 28, 2015. Rebuttal comments in response to material submitted during the foregoing period may be submitted during the subsequent 15-day period to February 12, 2015.

A copy of the application will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

For further information, contact Christopher Kemp at christopher.kemp@trade.gov or (202) 482-0862.

Dated: December 15, 2014.
Andrew McGilvray,
Executive Secretary.

[FR Doc. 2014-29782 Filed 12-18-14; 8:45 am]

BILLING CODE 3510-DS-P